NATIONAL AERONAUTICS AND SPACE ADMINISTRATION

[Notice (08-090)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: November 17, 2008.

FOR FURTHER INFORMATION CONTACT: Edward K. Fein, Patent Counsel, Johnson Space Center, Mail Code AL, Houston, TX 77058-8452; telephone (281) 483-4871; fax (281) 483-6936.

NASA Case No. MSC-24180-1: Filtering Apparatus and Method of Use;

NASA Case No. MSC-23349-2: Ad Hoc Selection of Voice Over Internet Streams;

NASA Case No. MSC-22859-5: Production of Functional Proteins: Balance of Shear Stress and Gravity;

NASA Case No. MSC-24508-1: Method for Making a Microporous Membrane;

NASA Case No. MSC-24441-1: Systems and Methods for Separating a Multiphase Fluid;

NASA Case No. MSC-24216-1: Connecting Node and Method for Constructing a Connecting Node.

Dated: November 4, 2008.
Michael C. Wholley,
General Counsel.

[FR Doc. E8-27309 Filed 11-14-08; 8:45 am]

BILLING CODE 7510-13-P